DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 2, 2012 through April 6, 2012.

In order for an affirmative determination to be made for workers of a primary firm and a certification issued regarding eligibility to apply for worker adjustment assistance, each of the group eligibility requirements of Section 222(a) of the Act must be met.

I. Under Section 222(a)(2)(A), the Following Must Be Satisfied

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) All of the Following Must Be Satisfied

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,092 | Cordis Corporation, Subsidiary of Johnson & Johnson, Kelly Services Leased Workers | Miami Lakes, FL | August 7, 2011.
81,092A | Leased Workers On Site at Cordis Corporation, Aten Solutions, Accureg, Acro, Advanced Energy Sysytems, APC Workforce, etc | Miami Lakes, FL | February 13, 2010.
81,116 | Clariant Corporation, Austin Industrial, Fluor Enterprises & Securitas Security Services USA | Martin, SC | February 13, 2010.
81,189 | Tecumseh Compressor Company, North American Compressor Engineering Group, Tecumseh Product, Manpower | Ann Arbor, MI | February 13, 2010.
81,189A | Tecumseh Compressor Company, North American Compressor Engineering Group, Tecumseh Product, Manpower | Tecumseh, MI | February 13, 2010.
81,224 | Catawissa Wood and Components, Inc. | Elysburg, PA | August 18, 2011.
81,278 | Milprint Packaging, LLC, Bemis Flexible Packaging | Newark, CA | February 13, 2010.
81,329 | Somerset Foundries, A Subsidiary of Consolidated Industries, Inc | Somerset, PA | February 14, 2011.
81,360 | Robert Bosch LLC, St. Joseph Plant (JPP), BMSN Stratosphere Quality, LLC, Allied Barton, etc | St. Joseph, MI | February 25, 2012.
81,379 | Manpower Staffing Agency, Working On-Site at International Business Machines (IBM) | Phoenix, AZ | February 3, 2011.
81,437 | The Wise Company, People Source | Rector, AR | March 19, 2011.

The following certifications have been issued. The requirements of Section 222(a)(2)(B) (shift in production or services) of the Trade Act have been met.

TA-W No. | Subject firm | Location | Impact date
81,289 | Transcom Worldwide (US) Inc., Transcom Worldwide S.A., A Luxembourg Company | Lafayette, LA | February 1, 2011.
81,292 | Siemens Medical Solutions, USA, Inc., Oncology Care Systems (Radiation Oncology), Source Right Solutions | Concord, CA | February 1, 2011.
81,297 | Samsung Information Systems America, Inc., Hard Disk Drive Lab, Secure Talent Leased Workers | San Jose, CA | February 3, 2011.
81,298 | Syniverse Technologies, Inc. | Watertown, MA | February 6, 2011.
81,338 | GlaxoSmithKline LLC, Global Manufacturing and Supply Division, Manpower, Strategic Resources etc | East Durham, NY | February 15, 2011.
81,368 | CitiGroup Technology, Inc. (CTI), Financial Reporting Operations, Citigroup, Inc., Adecco, Advantage, etc | Tampa, FL | February 24, 2011.
81,393 | Trim Systems Operating Corp., A Subsidiary of Commercial Vehicle Group, Staffmark Statesville | Statesville, NC | March 1, 2011.
81,400 | North American Communications, Inc., Spherion and Advantage Resource Group | Duncansville, PA | February 27, 2011.
81,422 | Thermo Fisher Scientific Milwaukee, LLC, Molecular Biology Reagents Division, Adecco Leased Workers | Milwaukee, WI | March 14, 2011.
81,450 | Schneider Electric, Including On-Site Leased Workers From Volt Workforce Solutions | Seneca, SC | December 10, 2011.

The following certifications have been issued. The requirements of Section 222(c) (supplier to a firm whose workers are certified eligible to apply for TAA) of the Trade Act have been met.

TA-W No. | Subject firm | Location | Impact date
81,381 | Coplas, Inc., A Tiercon Corp. and AGS USA Affiliate | Shreveport, LA | March 1, 2011.

Negative Determinations for Worker Adjustment Assistance

In the following cases, the investigation revealed that the eligibility criteria for worker adjustment assistance have not been met for the reasons specified.

The investigation revealed that the criteria under paragraphs (a)(2)(A)(i) (decline in sales or production, or both) and (a)(2)(B) (shift in production or services to a foreign country) of section 222 have not been met.

TA-W No. | Subject firm | Location | Impact date
81,383 | Impact Confections, SOS Staffing | Roswell, NM

The investigation revealed that the criteria under paragraphs(a)(2)(A) (increased imports) and (a)(2)(B) (shift in production or services to a foreign country) of section 222 have not been met.

TA-W No. | Subject firm | Location | Impact date
81,264 | Phillips-Van Heusen Corporation, Izod Women's Wholesale Division | New York, NY
81,268 | Follansbee Steel, Louis Berkman Company, Louis Berkman LLC WV | Follansbee, WV
81,313 | Wyatt VI, Inc., A Division of Wyatt Field Service Company, On Site at Hovensa Oil Refinery | Christiansted, VI

Determinations Terminating Investigations of Petitions for Worker Adjustment Assistance

After notice of the petitions was published in the Federal Register and on the Department's Web site, as required by Section 221 of the Act (19 USC 2271), the Department initiated investigations of these petitions.

The following determinations terminating investigations were issued because the petitioner has requested that the petition be withdrawn.

TA-W No. | Subject firm | Location | Impact date
81,088 | Unilin Flooring NC, LLC | Holden, WV
81,369 | Versatile Entertainment, Inc. | Los Angeles, CA
81,418 | Fortis Plastics LLC | Wilmington, OH
81,452 | T-Mobile USA, Inc | Redmond, OR

The following determinations terminating investigations were issued in cases where these petitions were not filed in accordance with the requirements of 29 C.F.R. 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
81,093 | Platinum Ribbon Packaging, Inc. | Port Washington, NY

I hereby certify that the aforementioned determinations were issued during the period of April 2, 2012 through April 6, 2012. These determinations are available on the Department's Web site tradeact/taa/taa search form.cfm.cfm under the searchable listing of determinations or by calling the Office of Trade Adjustment Assistance toll-free at 888-365-6822.

Dated: April 12, 2012.
Michael W. Jaffe,
Certifying Officer, Office of Trade Adjustment Assistance.

[FR Doc. 2012-9431 Filed 4-18-12; 8:45 am]

BILLING CODE 4510-FN-P